DEPARTMENT OF STATE

[Public Notice 4246]

60-Day Notice of Proposed Information Collection: Form DS-2029, Application for Consular Report of Birth Abroad of a Citizen of the United States of America (Includes SS-5); OMB Control Number 1405-0011

AGENCY: Department of State.

ACTION: Notice.

SUMMARY: The Department of State is seeking Office of Management and Budget (OMB) approval for the information collection described below. The purpose of this notice is to allow 60 days for public comment in the Federal Register preceding submission to OMB. This process is conducted in accordance with the Paperwork Reduction Act of 1995.

The following summarizes the information collection proposal to be submitted to OMB:

Type of Request: Reinstatement of a previously approved collection.

Originating Office: CA/OCS, all U.S. Embassies and Consulates abroad.

Title of Information Collection: 1405-0011, Application for Consular Report of Birth Abroad of a Citizen of the United States.

Frequency: Occasionally.

Form Number: DS-2029.

Respondents: Parents or legal guardians of American citizen children born overseas.

Estimated Number of Respondents: approximately 46,000 per year.

Average Hours Per Response: approximately 20 minutes.

Total Estimated Burden: 15,333 hours.

Public comments are being solicited to permit the agency to:

• Evaluate whether the proposed information collection is necessary for the Proper performance of the functions of the agency.

• Evaluate the accuracy of the agency's estimate of the burden of the proposed colLection, including the validity of the methodology and assumptions used.

• Enhance the quality, utility, and clarity of the information to be collected.

• Minimize the reporting burden on those who are to respond, including through the use of automated collection techniques or other forms of technology.

FOR FURTHER INFORMATION CONTACT: Public comments, or requests for additional information, regarding the collection listed in this notice should be directed to Michael Meszaros, who may be reached on 202-312-9722.

Dated: December 24, 2002.
Daniel B. Smith,
Assistant Secretary, Acting, Bureau of Consular Affairs, Department of State.

[FR Doc. 02-33124 Filed 12-31-02; 8:45 am]

BILLING CODE 4710-06-P